DEPARTMENT OF ENERGY

Federal Energy Regulatory Commission

[Docket No. CP15-558-000]

PennEast Pipeline Company, LLC; Notice of Public Comment Meeting Location Change for the Proposed Penneast Pipeline Project

The staff of the Federal Energy Regulatory Commission is providing this notice of a change in the location of public comment meetings for the PennEast Pipeline Project. Since issuance of the Notice of Availability of the Draft Environmental Impact Statement for the Proposed PennEast Pipeline Project on July 22, 2016, the Commission staff was notified that The Grand Colonial in Hampton, New Jersey and the Clifford B. Martin Memorial Hall in Ewing, New Jersey are no longer available for the public comment meetings previously scheduled for August 16 and 17, 2016, respectively. Please take note that the public comment meetings are now scheduled at the following alternative locations at the same date and time as previously scheduled.

Date and time | Location
Tuesday, August 16, 2016, 6-10 p.m | Holiday Inn Clinton-Bridgewater, Hunterdon Ballroom, 111 W Main Street, Clinton, NJ 08809, Phone: (908) 735-5111.
Wednesday, August 17, 2016, 6-10 p.m | Patriots Theater at War Memorial, George Washington Ballroom, 1 Memorial Drive, Trenton, NJ 08608, Phone: (609) 984-8484.

All other public comment meetings will be held as listed in the Notice of Availability issued on July 22, 2016.

Dated: August 5, 2016.
Nathaniel J. Davis, Sr.,
Deputy Secretary.

[FR Doc. 2016-19072 Filed 8-10-16; 8:45 am]

BILLING CODE 6717-01-P